DEPARTMENT OF JUSTICE

Antitrust Division

Notice Pursuant to the National Cooperative Research and Production Act of 1993—Association of Home Appliance Manufacturers

Notice is hereby given that, on September 10, 2004, pursuant to section 6(a) of the National Cooperative Research and Production Act of 1993, 15 U.S.C. 4301 et seq. (“the Act”), Association of Home Appliance Manufacturers (“AHAM”) has filed written notifications simultaneously with the Attorney General and the Federal Trade Commission disclosing (1) the name and principal place of business of the standards development activities. The notifications were filed for the purpose of invoking the Act's provisions limiting the recovery of antitrust plaintiffs to actual damages under specified circumstances.

Pursuant to section 6(b) of the Act, the name and principal place of business of the standards development organization is: Association of Home Appliance Manufacturers, Washington, DC. The nature and scope of AHAM's standards development activities are: the development and publication of product performance standards for home appliances.

Dorothy B. Fountain,
Deputy Director of Operations, Antitrust Division.

[FR Doc. 05-1975 Filed 2-1-05; 8:45 am]

BILLING CODE 4410-11-M